DEPARTMENT OF THE TREASURY

Internal Revenue Service

26 CFR Part 1, 5c, 5f, 18, and 301

[REG-106917-99]

RIN 1545-AX15

Changes In Accounting Periods; Hearing Cancellation

AGENCY: Internal Revenue Service (IRS), Treasury.

ACTION: Cancellation of notice of public hearing on proposed rulemaking.

SUMMARY: This document provides notice of cancellation of a public hearing on proposed regulations under sections 441, 442, 706, 898, and 1378 of the Internal Revenue Code of 1986 that relate to certain adoptions, changes, and retentions of annual accounting periods.

DATES: The public hearing originally scheduled for October 2, 2001, at 10 a.m., is cancelled.

FOR FURTHER INFORMATION CONTACT: Treena Garrett of the Regulations Unit, Associate Chief Counsel (Income Tax and Accounting), (202) 622-7180 (not a toll-free number).

SUPPLEMENTARY INFORMATION: A notice of proposed rulemaking and notice of public hearing that appeared in the Federal Register on June 13, 2001, (66 FR 31850), announced that a public hearing was scheduled for October 2, 2001, at 10 a.m., in the Auditorium, Internal Revenue Service Building, 1111 Constitution Avenue, NW., Washington, DC. The subject of the public hearing is proposed regulations under sections 441, 442, 706, 898, and 1378 of the Internal Revenue Code. The public comment period for these proposed regulations expired on September 11, 2001.

The notice of proposed rulemaking and notice of public hearing, instructed those interested in testifying at the public hearing to submit a request to speak and an outline of the topics to be addressed. As of September 24, 2001, no one has requested to speak. Therefore, the public hearing scheduled for October 2, 2001, is cancelled.

Cynthia E. Grigsby,
Chief, Regulations Unit, Associate Chief Counsel (Income Tax and Accounting).

[FR Doc. 01-24258 Filed 9-27-01; 8:45 am]

BILLING CODE 4830-01-P